DEPARTMENT OF DEFENSE

Office of the Secretary

[Transmittal No. 22-27]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-27 with attached Policy Justification and Sensitivity of Technology.

Dated: May 21, 2024.
Aaron T. Siegel,
Alternate OSD Federal Register Liaison Officer, Department of Defense.

BILLING CODE 6001-FR-P

BILLING CODE 6001-FR-C

Transmittal No. 22-27

Notice of Proposed Issuance of Letter of Offer Pursuant to Section 36(b)(1) of the Arms Export Control Act, as amended

(i) Prospective Purchaser: Government of Australia

(ii) Total Estimated Value:

Major Defense Equipment * | $52 million
Other | $42 million
Total | $94 million

(iii) Description and Quantity or Quantities of Articles or Services under Consideration for Purchase:

Major Defense Equipment (MDE):

Up to fifteen (15) AGM-88E2 Advanced Anti-Radiation Guided Missile (AARGM) Guidance Sections

Up to fifteen (15) AARGM Control Sections

Up to fifteen (15) High Speed Anti-Radiation Missiles (HARM) Rocket Motors

Up to fifteen (15) HARM Warheads

Up to fifteen (15) HARM Control Sections

Non-MDE:

Also included are AGM-88E2 AARGM All Up Round (AUR) tactical missiles; AGM-88E2 AARGM Captive Air Training Missile (CATM); HARM G-Code AUR; HARM G-Code CATM; M-Code GPS receivers; containers; support and test equipment; EA-18G Growler test support; spare and repair parts; software (Classified and Unclassified); U.S. Government and contractor engineering support; and other related elements of logistical and program support.

(iv) Military Department: Navy (AT-P-AQT)

(v) Prior Related Cases, if any: AT-P-LFT

(vi) Sales Commission, Fee, etc., Paid, Offered, or Agreed to be Paid: None

(vii) Sensitivity of Technology Contained in the Defense Article or Defense Services Proposed to be Sold: See Attached Annex

(viii) Date Report Delivered to Congress: June 21, 2022

* As defined in Section 47(6) of the Arms Export Control Act.

POLICY JUSTIFICATION

Australia—AGM-88E2 AARGM E2 Missiles

The Government of Australia has requested to buy up to fifteen (15) AGM-88E2 Advanced Anti-Radiation Guided Missile (AARGM) Guidance Sections; up to fifteen (15) AARGM Control Sections; up to fifteen (15) High Speed Anti-Radiation Missiles (HARM) Rocket Motors; up to fifteen (15) HARM Warheads; and up to fifteen (15) HARM Control Sections. Also included are AGM-88E2 AARGM All Up Round (AUR) tactical missiles; AGM-88E2 AARGM Captive Air Training Missile (CATM); HARM G-Code AUR; HARM G-Code CATM; M-Code GPS receivers; containers; support and test equipment; EA-18G Growler test support; spare and repair parts; software (Classified and Unclassified); U.S. Government and contractor engineering support; and other related elements of logistical and program support. The estimated total value is $94 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to meet current and future threats by suppressing and destroying land- or sea-based radar emitters associated with enemy air defenses. Destruction or suppression of enemy radar denies the adversary the use of air defense systems, thereby improving the survivability of its tactical aircraft. Australia will have no difficulty absorbing this equipment into its armed forces.

The proposed sale of this equipment and support will not alter the basic military balance in the region.

The principal contractors will be Northrop Grumman Information Systems (NGIS), Ridgecrest, CA. There are no known offset agreements proposed in connection with this potential sale.

Implementation of the proposed sale will require U.S. Government and contractor representatives to visit Australia on a temporary basis in conjunction with program technical oversight and support requirements, including program and technical reviews.

There will be no adverse impact on U.S. defense readiness as a result of this proposed sale.

Transmittal No. 22-27

Notice of Proposed Issuance of Letter of Offer Pursuant to Section 36(b)(1) of the Arms Export Control Act

Annex

Item No. vii

(vii) Sensitivity of Technology:

1. The AGM-88E2 Advanced Anti-Radiation Guided Missile (AARGM) weapon system is an air-to-ground missile intended for Suppression of Enemy Air Defenses (SEAD) and Destruction of Enemy Air Defenses (DEAD) missions. The AARGM E2 provides suppression or destruction of enemy radar and denies the enemy the use of air defense systems, thereby improving the survivability of tactical aircraft. The AGM-88E2 AARGM Captive Air Training Missiles (CATM) is used by pilots when training for SEAD/DEAD missions.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Australia can provide substantially the same degree of protection for the sensitive technology being released as the U.S. Government. This sale is necessary in furtherance of the U.S. foreign policy and national security objectives outlined in the Policy Justification.

5. All defense articles and services listed in this transmittal have been authorized for release and export to the Government of Australia.

[FR Doc. 2024-11525 Filed 5-23-24; 8:45 am]

BILLING CODE 6001-FR-P